FEDERAL COMMUNICATIONS COMMISSION

Notice of Public Information Collection(s) Being Reviewed by the Federal Communications Commission for Extension Under Delegated Authority

February 2, 2004.

SUMMARY: The Federal Communications Commission, as part of its continuing effort to reduce paperwork burden invites the general public and other Federal agencies to take this opportunity to comment on the following information collection(s), as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Persons wishing to comment on this information collection should submit comments April 12, 2004. If you anticipate that you will be submitting comments, but find it difficult to do so within the period of time allowed by this notice, you should advise the contact listed below as soon as possible.

ADDRESSES: Direct all Paperwork Reduction Act (PRA) comments to Judith B. Herman, Federal Communications Commission, 445 12th Street, SW., Room 1-C804, Washington, DC 20554 or via the Internet to Judith-B.Herman@fcc.gov.

FOR FURTHER INFORMATION CONTACT: For additional information or copies of the information collections contact Judith B. Herman at 202-418-0214 or via the Internet at Judith-B.Herman@fcc.gov.

SUPPLEMENTARY INFORMATION:

OMB Control No.: 3060-0286.

Title: Section 80.302, Notice of Discontinuance, Reduction, or Impairment of Service Involving a Distress Watch.

Form No.: N/A.

Type of Review: Extension of a currently approved collection.

Respondents: Individuals or households, business or other for profit, not-for-profit institutions, and State, local, or tribal government.

Number of Respondents: 160.

Estimated Time Per Response: 1 hour.

Frequency of Response: Third party disclosure requirement.

Total Annual Burden: 160 hours.

Annual Cost Burden: N/A.

Needs and Uses: The reporting requirement contained in section 80.302 is necessary to ensure that the U.S. Coast Guard is timely notified when a coast station, which is responsible for maintaining a listening watch on a designated marine distress and safety frequency discontinues, reduces or impairs its communications services. This notification allows the Coast Guard to seek an alternate means of providing radio coverage to protect the safety of life and property at sea or object to the planned diminution of service. The information is used by the U.S. Coast Guard district office nearest to the coast station. Once the Coast Guard is aware that such a situation exists, it is able to inform the maritime community that radio coverage has or will be affected and/or seek to provide coverage of the safety watch via alternate means. When appropriate the Coast Guard may file a petition to deny any application. The Commission is seeking extension (no change) for this collection and all collections listed below for which we are seeking the full three year OMB clearance.

OMB Control No.: 3060-0308.

Title: Section 90.505, Developmental Operation, Showing Required.

Form No.: N/A.

Type of Review: Extension of a currently approved collection.

Respondents: Business or other for-profit entities, not-for-profit institutions, and State, local or tribal government.

Number of Respondents: 100.

Estimated Time Per Response: 2 hours.

Frequency of Response: On occasion reporting requirement.

Total Annual Burden: 200 hours.

Annual Cost Burden: N/A.

Needs and Uses: Section 90.505 requires applicants proposing developmental operations to submit supplemental information showing why the authorization is necessary and what its use will be. This requirement will be used by Commission staff in evaluating the applicant's need for such frequencies and the interference potential to other stations operating on the proposed frequencies.

OMB Control No.: 3060-0490.

Title: Section 74.902, Frequency Assignments.

Form No.: N/A.

Type of Review: Extension of a currently approved collection.

Respondents: Business or other for-profit entities, not-for-profit institutions, and State, local or tribal government.

Number of Respondents: 5.

Estimated Time Per Response: .50 hours.

Frequency of Response: On occasion reporting requirement and third party disclosure requirement.

Total Annual Burden: 3 hours.

Annual Cost Burden: N/A.

Needs and Uses: Section 74.902 dictates that when a point-to-point ITFS station on the E and F MDS channels is involuntarily displaced by an MDS applicant, the MDS applicant must file the appropriate application for suitable alternative spectrum. The applications used would be FCC Form 327 (3060-0055) and FCC Form 330 (3060-0062). Section 74.902(i) requires that a copy of this application be served on the ITFS licensee to be moved. The data will be used by the ITFS licensee to oppose the involuntary migration if the proposal would not provide comparable ITFS service and would not serve the public interest.

OMB Control No.: 3060-0491.

Title: Section 74.991, Wireless Cable Application Procedures.

Form No.: N/A.

Type of Review: Extension of a currently approved collection.

Respondents: Business or other for-profit entities.

Number of Respondents: 100.

Estimated Time Per Response: 4.5 hours (.5 respondent/4 hours attorney).

Frequency of Response: On occasion reporting requirement and third party disclosure requirement.

Total Annual Burden: 50 hours.

Annual Cost Burden: $116,240.

Needs and Uses: Section 74.991 requires that a wireless cable application be filed on FCC Form 330 (3060-0062), sections I and V, with a complete FCC Form 304 (3060-0654) appended. The application must include a cover letter clearly indicating that the application is for a wireless cable entity to operate on ITFS channels. The applicant must also, within 30 days of filing its application, give local public notice in a daily newspaper of general circulation published in the community in which the proposed station will be located. The specific data that must be included in the newspaper publication is contained in section 74.991(c). The notice must be published twice a week for two consecutive weeks. The data is used by FCC staff to ensure that proposals to operate a wireless cable system on ITFS channels do not impair or restrict any reasonably foreseeable ITFS use. The data is also used to insure that applicants are qualified to become a Commission licensee and that proposals do not cause interference.

OMB Control No.: 3060-0492.

Title: Section 74.992, Access to Channels Licensed to Wireless Cable Entities.

Form No.: N/A.

Type of Review: Extension of a currently approved collection.

Respondents: Business or other for-profit entities and State, local or tribal government.

Number of Respondents: 10.

Estimated Time Per Response: 3.5 hours (1.5 respondent/2 hours contractor).

Frequency of Response: On occasion reporting requirement and third party disclosure requirement.

Total Annual Burden: 15 hours.

Annual Cost Burden: $4,000.

Needs and Uses: Section 74.992(a) requires that requests by ITFS entities for access to wireless cable facilities licensed on ITFS frequencies be made by filing FCC Form 330 (3060-0062), section I, II , III and IV. The application must include a cover letter clearly indicating that the application is for ITFS access to a wireless cable entity's facilities on ITFS channels. Section 74.992(d) requires an ITFS user to provide a wireless cable licensee with its planned schedule of use four months in advance of accessing the channels. This notice is completed before the filing of the application. The data is used by FCC staff to determine eligibility of an educational institution or entity demanding access for ITFS use on a wireless cable facility. The four month advance notice is used by the wireless cable licensee to allow it to move programming to other channels.

OMB Control No.: 3060-0493.

Title: Section 74.986, Involuntary ITFS Station Modifications.

Form No.: N/A.

Type of Review: Extension of a currently approved collection.

Respondents: Business or other for-profit entities and State, local or tribal government.

Number of Respondents: 25.

Estimated Time Per Response: 5 hours (1 hour respondent/4 hours contractor).

Frequency of Response: On occasion reporting requirement.

Total Annual Burden: 25 hours.

Annual Cost Burden: $16,250.

Needs and Uses: Section 74.986 requires that an application for involuntary modification of an ITFS station be filed on FCC Form 330 (3060-0062) but need not fill out section II (legal qualifications). The application must include a cover letter clearly indicating that the modification is involuntary and identify the parties involved. The data is used by FCC staff to insure that proposals to modify facilities of ITFS licensees/permittees would provide comparable ITFS service and would otherwise serve the public interest in promoting the MMDS service.

OMB Control No.: 3060-0494.

Title: Section 74.990, Use of Available Instruction Television Fixed Service Frequencies by Wireless Cable Entities.

Form No.: N/A.

Type of Review: Extension of a currently approved collection.

Respondents: Business or other for-profit entities and State, local or tribal government.

Number of Respondents: 100.

Estimated Time Per Response: .33-2 hours.

Frequency of Response: On occasion reporting requirement.

Total Annual Burden: 42 hours.

Annual Cost Burden: $11,250.

Needs and Uses: Section 74.990(c) requires applicants to confirm their unopposed status after the period for filing competing applications and petitions to deny has passed. This confirmation is accomplished through the filing of a letter with the Commission. Section 74.990(d) requires a wireless cable applicant to show that there are no multipoint distribution service (MDS) or multichannel multipoint distribution service (MMDS) channels available for application, purchase or lease that could be used in lieu of the instructional television fixed service (ITFS) frequencies applied for. The data provided in the showing will be used by FCC staff to insure that proposals to operate a wireless cable system on ITFS channels do not impair or restrict any reasonably foreseeable ITFS use.

OMB Control No.: 3060-0966.

Title: Sections 80.385, 80.475, and 90.303, Automated Maritime Telecommunications Service (AMTS).

Form No.: N/A.

Type of Review: Extension of a currently approved collection.

Respondents: Individuals or households and business or other for-profit entities.

Number of Respondents: 20.

Estimated Time Per Response: .50 hours.

Frequency of Response: On occasion reporting requirement and third party disclosure requirement.

Total Annual Burden: 10 hours.

Annual Cost Burden: N/A.

Needs and Uses: The reporting requirements are necessary to require licensees of Automated Maritime Telecommunications System (AMTS) stations to notify TV stations and two organizations (the American Radio Relay League (ARRL), and Interactive Systems, Inc.) that maintain databases of AMTS locations for the benefit of amateur radio operators of the location of AMTS fill-in stations. Amateur radio operators use some of the same frequencies (219 -220 MHz) as AMTS stations on a secondary, non-interference basis for digital message forwarding systems. Reporting requirements are necessary to require amateurs proposing to operate within close proximity of an AMTS station to notify the AMTS licensee as well as the ARRL. The information is used to update databases concerning AMTS locations for the benefit of amateur radio operators. If the collection of information was not conducted, the database would become inaccurate and the ability to avoid interference problems would deteriorate.

OMB Control No.: 3060-0970.

Title: Section 90.621(e)(2), Selection and Assignment of Frequencies.

Form No.: N/A.

Type of Review: Extension of a currently approved collection.

Respondents: Business or other for-profit entities and State, local or tribal government.

Number of Respondents: 1,000.

Estimated Time Per Response: .50 hours.

Frequency of Response: On occasion reporting requirement.

Total Annual Burden: 500 hours.

Annual Cost Burden: N/A.

Needs and Uses: Section 90.621 requires applicants proposing to modify operations to use channels for commercial purposes in certain frequency bands in 800 MHz to provide written notice of the modification to all Public Safety licensees within 70 miles of the site of the channels for which the authorization for commercial use is sought that operate within 25 kHz of the center of those channels. This requirement seeks to avoid the potential of interference that could result from the modification of a Private Land Mobile radio facility to commercial use. If the information were not available, there would be an increased risk of interference in this band.

OMB Control No.: 3060-0261.

Title: Section 90.215, Transmitter Measurements.

Form No.: N/A.

Type of Review: Extension of a currently approved collection.

Respondents: Individuals or households, business or other for-profit entities, not-for-profit institutions, and State, local or tribal government.

Number of Respondents: 20,075.

Estimated Time Per Response: .33 hours.

Frequency of Response: Recordkeeping requirement.

Total Annual Burden: 663 hours.

Annual Cost Burden: N/A.

Needs and Uses: This rule requires licensees to measure carrier frequency, output power, and modulation of each transmitter authorized to operate with power in excess of two watts when the transmitter is initially installed and when any changes are made which would likely affect such parameters. Such measurements, which help ensure proper operation of transmitters, are required to be retained in the station records. The information is normally used by the licensee to ensure that equipment is operating within prescribed tolerances. Prior technical operation of transmitters helps limit interference to other users and provides the licensee with the maximum possible utilization of equipment.

OMB Control No.: 3060-0691.

Title: Amendment of Parts 2 and 90 of the Commission's Rules to Provide for the Use of 200 Channels Outside of the Designated Filing Areas in the 896-901 MHz Bands Allotted to the Specialized Mobile Radio Pool, Second Order on Reconsideration and Seventh Report and Order for the 900 MHz Specialized Mobile Radio Service.

Form No.: N/A.

Type of Review: Extension of a currently approved collection.

Respondents: Individuals or households and business or other for-profit entities.

Number of Respondents: 135.

Estimated Time Per Response: .50—2 hours.

Frequency of Response: On occasion reporting requirement and recordkeeping requirement.

Total Annual Burden: 274 hours.

Annual Cost Burden: $55,200.

Needs and Uses: This information collection is used to verify construction requirements that will be used by the Commission to determine whether the licensee has met the 900 MHz MTA construction requirements. The information is filed electronically on the FCC Form 601.

OMB Control No.: 3060-0281.

Title: Section 90.651, Supplemental Reports Required of Licensees Authorized Under this Subpart.

Form No.: N/A.

Type of Review: Extension of a currently approved collection.

Respondents: Business or other for-profit entities, not-for-profit institutions and State, local or tribal government.

Number of Respondents: 16,408.

Estimated Time Per Response: .166 hours.

Frequency of Response: On occasion reporting requirement.

Total Annual Burden: 2,724 hours.

Annual Cost Burden: N/A.

Needs and Uses: This rule section specifies the timeframe for reporting the number of mobile units placed in operation from eight months to 12 months. The radio facilities addressed in this subpart are allocated on and governed by regulations designed to award facilities on a need basis determined by the number of mobile units served by each base station. This is necessary to avoid frequency hoarding by applicants. The various subparts of this rule apply to different categories of licensees and define exactly what reports are required of each category. The Commission uses the information to maintain an accurate database of frequency users.

OMB Control No.: 3060-0914.

Title: Petition, Pursuant to Section 7 of the Act, for a Waiver of the Airborne Cellular Rule, or in the Alternative, for a Declaratory Ruling.

Form No.: N/A.

Type of Review: Extension of a currently approved collection.

Respondents: Business or other for-profit entities, Federal government, and State, local or tribal government.

Number of Respondents: 30.

Estimated Time Per Response: 8 hours.

Frequency of Response: On occasion reporting requirement and recordkeeping requirement.

Total Annual Burden: 240 hours.

Annual Cost Burden: N/A.

Needs and Uses: The Commission has reset an Order it adopted on December 24, 1998, that grants conditionally AirCell's waiver request of section 22.925. The waiver permits AirCell, Inc., and a number of cellular licensees, which jointly entered into resale agreements with AirCell, Inc., to furnish system capacity for the provision of cellular service on a secondary, conditional basis to airborne terminal units using technology developed by AirCell, Inc. The waiver also gives AirCell the authority to operate a specially-designed mobile cellular telecommunications unit for use aboard general aviation aircraft. The AirCell system gives the public greater access to safety-related data and wireless telephone services for general aviation and equips pilots with a transmission facility that can provide a method of receiving real-time information about changing weather conditions, navigation, telemetry, and aircraft operations.

Federal Communications Commission.
Marlene H. Dortch,
Secretary.

[FR Doc. 04-3051 Filed 2-11-04; 8:45 am]

BILLING CODE 6712-01-P